DEPARTMENT OF COMMERCE

National Oceanic and Atmospheric Administration

[I.D. 090705C]

Mid-Atlantic Fishery Management Council; Public Hearings

AGENCY: National Marine Fisheries Service (NMFS), National Oceanic and Atmospheric Administration (NOAA), Commerce.

ACTION: Notice of public scoping meetings, request for comments.

SUMMARY: The Mid-Atlantic Fishery Management Council was tasked by Congress, together with the New England Fishery Management Council, South Atlantic Fishery Management Council, and the Gulf of Mexico Fishery Management Council, to incorporate ecosystem considerations into their fisheries management processes. The purpose of this ecosystem initiative mandated by Congress is to engage the four Councils and their constituencies in public debate on the establishment of ecosystem goals, the inclusion of the types of considerations to be addressed in ecosystem management, and the identification of issues not covered under existing authorities.

DATES: Written comments will be accepted until November 15, 2005. All scoping meetings will begin at 7 p.m. For a list of specific dates and locations of the meetings, see SUPPLEMENTARY INFORMATION.

ADDRESSES: Comments may be submitted through any of the following methods:

• Mail: Daniel T. Furlong, Executive Director, Mid-Atlantic Fishery Management Council, 300 S. New Street, Dover, DE 19904

• Fax: 302-674-5399

• E-mail: info@mafmc.org

FOR FURTHER INFORMATION CONTACT: Daniel T. Furlong, Executive Director of the Mid-Atlantic Fishery Management, 302-674-2331, ext. 19.

SUPPLEMENTARY INFORMATION:

Background

The purpose of these scoping meetings is to undertake public meetings with stakeholder groups and interested parties “to facilitate wide-ranging discussions with affected/interested parties and the general public in nine topic areas: (1) Views regarding the adequacy of current approaches for addressing ecosystem considerations, (2) the nature of ecosystem-based management and the goals to be achieved in addressing ecosystem issues, (3) the nature of the public decision making processes within the Councils for addressing management tradeoffs, consistent with identified goals, (4) mechanisms for considering activities outside the FMC's purview but influencing ecosystem productivity, (5) the boundaries of sub-regional ecosystems within the areas of the various FMCs, (6) the types of management measures that would be incorporated into ecosystem approaches for fishery management, consistent with the identified goals, (7) the specific regional issues that need to be addressed in a fishery ecosystem plan (FEP), (8) techniques for determining success of ecosystem-based management, and (9) other issues considered important in any particular region.” The scoping document that will be used at the meetings will be mailed to all entities on the Council's mailing list. Additional copies are readily available from the above address. Following each of the nine topic areas discussed in the scoping document there are a series of questions that are designed to initiate, but not limit, the debate on the practicability of adopting some form of ecosystem based fishery management.

Dates and Locations of the Meetings

The dates and locations of the meetings are as follows:

• Monday, September 26, 2005: Clarion Oceanfront, 1601 S. Virginia Dare Trail, Kill Devil Hills, NC 27948.

• Tuesday, September 27, 2005: Comfort Inn, 3100 Arendell Street, Morehead City, NC 28557.

• Wednesday, September 28, 2005: Norfolk Days Inn Airport, 5708 Northampton Blvd., Virginia Beach, VA 23455.

• Monday, October 3, 2005: Crowne Plaza JFK Airport, 151-20 Baisley Blvd., Jamaica, NY 11434.

• Tuesday, October 4, 2005: Southampton Inn, 91 Hill Street, Southampton, NY 11968.

• Thursday, October 6, 2005: Ocean Place Resort, One Ocean Blvd., Long Branch, NJ 07740.

• Tuesday, October 11, 2005: Holiday Inn Select, 480 King Street, Old Town Alexandria, VA 22314.

• Wednesday, October 12, 2005: Princess Royale, 9100 Coastal Highway, Ocean City, MD 21842.

• Thursday, October 13, 2005: Sheraton, 173 Jennifer Road, Annapolis, MD 21401.

• Monday, October 17, 2005: Congress Hall Hotel, 251 Beach Avenue, Cape May, NJ 08204.

• Tuesday, October 18, 2005: University of DE, College of Marine Studies, Marine Operations Blvd., Lewes, DE 19958.

• Wednesday, October 19, 2005: Best Western Delaware, 260 Chapman Road, Newark, DE 19702.

• Monday, October 24, 2005: Renaissance Philadelphia Airport, 500 Stevens Drive, Philadelphia, PA 19113.

Special Accommodations

The hearings are physically accessible to people with disabilities. Requests for sign language interpretation or other auxiliary aids should be directed to Jan Saunders (302-674-2331 ext: 18) at the Mid-Atlantic Council office at least 5 days prior to the hearing date.

Dated: September 7, 2005.
Emily Menashes,
Acting Director, Office of Sustainable Fisheries, National Marine Fisheries Service.

[FR Doc. E5-4969 Filed 9-9-05; 8:45 am]

BILLING CODE 3510-22-S